NATIONAL AERONAUTICS AND SPACE ADMINISTRATION

[NASA (22-026)]

Name of Information Collection: X-59 Quiet SuperSonic Community Response Survey Preparation

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by June 3, 2022.

ADDRESSES: Written comments and recommendations for this information collection should be sent within 60 days of publication of this notice to www.reginfo.gov/public/do/PRAMain.

Find this particular information collection by selecting “Currently under 60-day Review—Open for Public Comments” or by using the search function.

FOR FURTHER INFORMATION CONTACT: Requests for additional information or copies of the information collection instrument(s) and instructions should be directed to Claire Little, NASA Clearance Officer, on (202) 358-1351, or email claire.a.little@nasa.gov, NASA Headquarters, 300 E Street SW, JF0000, Washington, DC 20546.

SUPPLEMENTARY INFORMATION:

I. Abstract

Supersonic passenger flight over land is currently restricted in the U.S. and many countries because sonic booms have been known to disturb people on the ground. There is a potential for a change in federal and international regulations if supersonic flight can occur at acceptably low noise levels. NASA is preparing a series of Community Response Surveys coupled with research flights to gather data on the public acceptability of low noise supersonic flight.

Prior to the Community Response Surveys, NASA will conduct a check of the overall survey process without accompanying flights (Community Response Survey Preparation). This is necessary to minimize the risk of problems or errors with the actual Community Response Surveys, which will involve coordinating efforts with preparing and scheduling flights of the X-59 Quiet SuperSonic Technology aircraft.

NASA has supported two prior field tests to evaluate data collection methods for community response to low noise supersonic flight; one test was at Edwards Air Force Base, California in 2011 and the second was the Quiet Supersonic Flights 2018 (QSF18) study in Galveston, Texas. The findings from these prior tests were not intended for gathering data supporting regulatory changes but to provide lessons learned in the survey methodology that will be employed in this study.

After the Community Response Survey Preparation, NASA plans to conduct up to five Community Response Surveys in different areas of the contiguous U.S. Each Community Response Survey will have a maximum of 113 responses (“activities”) per respondent, spread across a 30-day period. Some responses are collected up to six times per day, while other responses are collected once per day.

II. Methods of Collection

Participants from the public will receive mailings prompting them to complete a web survey that will be available through a direct URL and through a custom app that they will have the option of downloading to their phone or mobile device.

III. Data

Title: X-59 Quiet SuperSonic Community Response Survey Preparation.

OMB Number:

Type of review: New.

Affected Public: Individuals and Households.

Estimated Annual Number of Activities: 113.

Estimated Number of Respondents per Activity: 500.

Annual Responses: 56,500.

Estimated Time per Response: 2 minutes.

Estimated Total Annual Burden Hours: 1,883 hours.

Estimated Total Annual Cost: $58,806.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2022-07051 Filed 4-1-22; 8:45 am]

BILLING CODE 7510-13-P